DEPARTMENT OF THE INTERIOR

Bureau of Land Management

[NV-930-1430-ET; NVN-75209]

Notice of Proposed Withdrawal and Opportunity for Public Meeting; Nevada; Correction

AGENCY: Bureau of Land Management.

ACTION: Correction.

SUMMARY: This action corrects errors in the acreage and land descriptions in the notice published as FR Doc. 02-11433, 67 FR 30960, May 8, 2002.

On page 30960, second column, line 6 from the bottom of the column, which reads “2,303.61 acres of public lands from” is hereby corrected to read “2,313.92 acres of public lands from”.

On page 30960, third column, line 29 from the top of the column, which reads “Sec. 4, lots 9 to 14, inclusive, lots 16 to 20,” is hereby corrected to read “Sec. 4, lots 9 to 14, inclusive, lots 16 and 17,”.

On page 30960, third column, line 35 from the top of the column, which reads “Sec. 9, lots 1 to 4 inclusive,” is hereby corrected to read “Sec. 9, lots 1 to 3 inclusive,”.

On page 30960, third column, line 37 from the top of the column, which reads “S½NE¼SW¼NE¼, S½SE¼SW¼NE¼,” hereby corrected to read “S½NE¼SW¼NE¼, N½SE¼SW¼NE¼,”.

On page 30960, third column, line 17 from the bottom of the column, which reads “Sec. 16, N½NW¼SW¼, SE¼NE¼NE¼,” is hereby corrected to read “Sec. 16, SE¼NE¼NE¼,”.

On page 30960, third column, line 15 from the bottom of the column, which reads “SE¼NE¼NE¼, and E½SE¼NE¼.” is hereby corrected to read “SW¼NE¼NE¼, and E½SE¼NE¼.”.

On page 30960, third column, line 13 from the bottom of the column, which reads “2,303.61 acres in Nye and Mineral” is hereby corrected to read “2,313.92 acres in Nye and Mineral”.

Dated: September 24, 2002.
Jim Stobaugh,
Lands Team Lead.

[FR Doc. 02-27478 Filed 10-28-02; 8:45 am]

BILLING CODE 4310-HC-P